DEPARTMENT OF COMMERCE

Submission for OMB Review; Comment Request

SUMMARY: The Department of Commerce has submitted to the Office of Management and Budget (OMB) for clearance the following proposal for collection of information under the provisions of the Paperwork Reduction Act (44 U.S.C. Chapter 35).

Agency: National Oceanic and Atmospheric Administration.

Title: Alaska Individual Fishing Quota Cost Recovery Program Requirements.

Form Number(s): None.

OMB Approval Number: 0648-0398.

Type of Request: Regular submission.

Burden Hours: 5,504.

Number of Respondents: 2,700.

Average Hours Per Response: 2 hours for a fee submission form; 2 hours for a register buyer ex-vessel value and volume report; 2 hours for an appeal; and 30 minutes for a pre-payment of fees.

Needs and Uses: The Magnuson-Stevens Fishery Conservation and Management Act requires that the Secretary of Commerce implement a Cost Recovery Program to cover the management and enforcement costs of the Alaska Individual Fishing Quota (IFQ) Program. This Cost Recovery Program requires IFQ permit holders and registered buyers to submit information about the value of landings of IFQ species and for the permit holders to calculate and submit fees.

Affected Public: Business or other for-profit organizations, individuals or households, not-for-profit institutions.

Frequency: On occasion, annually.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW, Washington, DC 20230 (or via the Internet at dHynek@doc.gov).

Written comments and recommendations for the proposed information collection should be sent within 30 days of publication of this notice to David Rostker, OMB Desk Officer, Room 10202, New Executive Office Building, Washington, DC 20503.

Dated: February 27, 2003.
Gwellnar Banks,
Management Analyst, Office of the Chief Information Officer.

[FR Doc. 03-5723 Filed 3-10-03; 8:45 am]

BILLING CODE 3510-22-S